DEPARTMENT OF THE INTERIOR

Bureau of Land Management

[NM-930-1430-ET; NMNM 116726]

Public Land Order No. 7687; Revocation of Coal Classification Order No. 89 Dated July 9, 1962; New Mexico

AGENCY: Bureau of Land Management, Interior.

ACTION: Public Land Order.

SUMMARY: This order revokes a Geological Survey Order in its entirety as it affects approximately 92,215 acres of public lands withdrawn from surface entry and reserved for coal classification purposes. The lands are no longer needed for the purpose for which they were withdrawn. This order opens the lands to surface entry subject to other segregations of record.

DATES: Effective Date: April 3, 2008.

FOR FURTHER INFORMATION CONTACT: Gilda Fitzpatrick, BLM New Mexico State Office, 1474 Rodeo Road, Santa Fe, New Mexico 87502, 505-438-7597.

SUPPLEMENTARY INFORMATION: The lands have been and will continue to be open to mining and mineral leasing. Copies of the Classification Order showing the complete legal description are available from the BLM New Mexico State Office at the above address.

Order

By virtue of the authority vested in the Secretary of the Interior by section 204 of the Federal Land Policy and Management Act of 1976, 43 U.S.C. 1714 (2000), it is ordered as follows:

1. The Geological Survey Coal Classification Order New Mexico No. 89 dated July 9, 1962, which withdrew public lands from surface entry and reserved them for coal classification purposes, is hereby revoked in its entirety. The areas aggregate approximately 92,215 acres in San Juan County.

2. At 10 a.m. on April 3, 2008, subject to valid existing rights, the provisions of existing withdrawals, other segregations of record, and the requirements of applicable law, the lands referenced in this order will be opened to the operation of the public land laws generally. All valid applications received at or prior to 10 a.m. on April 3, 2008, shall be considered as simultaneously filed at that time. Those received thereafter shall be considered in the order of filing.

Dated: December 11, 2007.
C. Stephen Allred,
Assistant Secretary—Land and Minerals Management.

[FR Doc. E8-4117 Filed 3-3-08; 8:45 am]

BILLING CODE 4310-FB-P